DEPARTMENT OF LABOR

Employment and Training Administration Office of Workforce Security; Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension collection of the MA 8-7, Transmittal for Unemployment Insurance Materials. A copy of the proposed information collection request can be obtained by contacting the office listed below in the addressee section of this notice.

DATES: Written comments must be submitted to the office listed in the addressee section below on or before December 11, 2000.

ADDRESSES: Darlyne Bryant, Room C-4518, U.S. Department of Labor, 200 Constitution Avenue, NW., Washington, DC 20210; telephone: (202) 219-5200, extension 366 (this is not a toll-free number); e-mail: dbryant@doleta.gov; facsimile (202) 208-5844.

SUPPLEMENTARY INFORMATION:

I. Background

Department of Labor, Employment and Training Administration regulations, 20 CFR 601, Administrative Procedures, contains collection of information requirements at Sections 601.2 and 601.3. Section 601.2 requires States to submit copies of their unemployment compensation laws for approval by the Secretary of Labor so that the Secretary may determine the status of State laws and plans of operation. Section 601.3 requires States to “submit all relevant State materials such as statutes, executive and administrative orders, legal opinions, rules, regulations, interpretations, court decisions, etc.” These materials are used by the Secretary to determine whether the State law contains provisions required by Section 3304(a) of the Internal Revenue Code of 1986. Grants of funds are made to States for the administration of their employment security laws if their unemployment compensation laws and their plans of operation for public employment offices meet required conditions of Federal laws. The information transmitted by Form MA 8-7 is used by the Secretary to make findings (as specified in the above cited Federal laws) required for certification to the Secretary of the Treasury for payment to States or for certification of the State law for purposes of additional tax credit. If this information is not available, the Secretary cannot make such certifications. To facilitate transmittal of required material, the Department prescribes the use of Form MA 8-7, Transmittal for Unemployment Insurance Materials. This simple checkoff form is used by the States to identify material being transmitted to the National Office and allows the material to be routed to appropriate staff for prompt action.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technologies collection techniques or other forms of information technology, e.g., permitting electronic submissions of responses.

III. Current Actions

States could not be certified if this information were not collected and Form MA 8-7 greatly facilitates its receipt.

Type of Review: Extension without change.

Agency: Employment and Training Administration.

Title: Transmittal for Unemployment Insurance Materials.

OMB Number: 1205-0222.

Agency Number: MA 8-7.

Affected Public: State Governments.

Total Respondents: 53.

Frequency: As needed.

Total Responses: 3,120.

Average Time per Response: 1 minute.

Estimated Total Burden Hours: 53 hours.

Total Burden Cost (capital/startup): None.

Total Burden Cost (operating/maintaining): $1,060.

Comments submitted in response to this comment request will be summarized and/or included in the request for Office of Management and Budget approval of the information collection request; they will also become a matter of public record.

Dated: October 5, 2000.
Grace A Kilbane,
Administrator, Office of Workforce Security.

[FR Doc. 00-26156 Filed 10-11-00; 8:45 am]

BILLING CODE 4510-30-M